DEPARTMENT OF STATE

[Public Notice: 9484]

Notice of Meeting of the International Telecommunication Advisory Committee

This notice announces a meeting of the United States International Telecommunication Advisory Committee (ITAC) to gather participants' perspectives on the dynamic and evolving international environment around the Internet of Things (IoT) and the application of that technology in Smart Cities, including relevant technical, commercial, and economic issues.

The Department of State seeks to determine where and how diplomacy can best support U.S. innovation and economic growth in this area. Attendees will be invited to share their thoughts on topics including the following:

• The most significant technical issues (e.g., interoperability, security) at play in the international market;

• The impact of national and multilateral initiatives within and among various countries related to Smart Cities and IoT (e.g., the EU Digital Agenda);

• International standards and standards bodies;

• The appropriateness of international regulation related to IoT;

• Privacy and security in the IoT environment.

Internet of Things issues are included in preparations for the upcoming Organization for Economic Cooperation and Development (OECD) ministerial. Over the last 6 months, the United States has participated in the International Telecommunications Union Standardization Sector Study Group 20 (SG20), which focuses on the development of standards related to IoT and Smart Cities. Attendees are invited to share their perspectives on U.S. engagement in SG20. To inform the discussion, the head of the U.S. delegation to SG20 will describe the outcomes of the first two meetings of the study group.

The ITAC will meet on April 21st, 2016 at 2:00 p.m. EDT at: Verizon, Inc., 1300 I Street NW., Suite 400W, Washington, DC 20005.

Attendance at this meeting is open to the public as seating capacity allows. The public will have an opportunity to provide comments at this meeting at the invitation of the chair.

Further details on this ITAC meeting will be announced on the Department of State's email list, ITAC@lmlist.state.gov. Use of the ITAC list is limited to meeting announcements and confirmations, distribution of agendas and other relevant meeting documents. The Department welcomes any U.S. citizen or legal permanent resident to remain on or join the ITAC listserv by providing his or her name, email address, and the company, organization, or community that he or she is representing, if any.

Persons wishing to request reasonable accommodation for the meeting should contact gadsdensf@state.gov not later than April 13, 2016. Requests made after that time will be considered, but might not be able to be fulfilled.

FOR FURTHER INFORMATION CONTACT: Please contact Adriane LaPointe at (202) 647-0049, lapointea@state.gov.

Dated: March 11, 2016.
Julie Zoller,
Senior Deputy Coordinator, International Communications and Information Policy, U.S. State Department.

[FR Doc. 2016-06049 Filed 3-16-16; 8:45 am]

BILLING CODE 4710-AE-P